DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: NOAA Customer Surveys.

Form Number(s): None.

OMB Approval Number: 0648-0342.

Type of Request: Regular submission.

Burden Hours: 1,337.

Number of Respondents: 18,573.

Average Hours Per Response: 4 minutes.

Needs and Uses: This is a request for a generic clearance for voluntary customer surveys to be conducted by NOAA program offices to determine whether their customers are satisfied with products and/or services being received and whether they have suggestions for improving those products and services. NOAA is not planning a NOAA-wide survey. The request is for approval of generic lists of questions which individual program offices would select from and adapt to meet their specific needs, and for the previously approved list of surveys using these questions. The proposed surveys are developed and sent to OMB for fast-track review to ensure that they are consistent with the generic clearance and well-planned.

Affected Public: Business or other for-profit organizations; Individuals or households; Not-for-profit institutions; Farms; Federal government; State, local or tribal government.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: March 21, 2005.
Gwellnar Banks,
Management Analyst, Office of the Chief Information Officer.

[FR Doc. 05-5936 Filed 3-24-05; 8:45 am]

BILLING CODE 3510-22-P